ENVIRONMENTAL PROTECTION AGENCY

[EPA-R9-2021-04; FRL-10023-16-Region 9]

Commonwealth Utilities Corporation Power Plant Site, Rota, Commonwealth of the Northern Mariana Islands; Notice of Proposed CERCLA Settlement Agreement and Order on Consent

AGENCY: Environmental Protection Agency (EPA).

ACTION: Notice; request for comment.

SUMMARY: In accordance with Section 122(i) of the Comprehensive Environmental Response, Compensation and Liability Act of 1980, as amended (CERCLA), notice is hereby given of a proposed administrative settlement with Commonwealth Utilities Corporation (CUC), for payment of costs of a removal action at a power plant owned and operated by CUC on the Island of Rota in the Commonwealth of the Northern Mariana Islands (CNMI). The Environmental Protection Agency (EPA) enters the settlement pursuant to Section 122(h)(1) of CERCLA. The settlement provides for CUC's payment of $315,000, plus interest, towards costs incurred by EPA and the United States in removing polychlorinated biphenyl wastes from the CUC power plant in Rota during 2011-2013. The settlement includes a covenant not to sue pursuant to Sections 106 or 107(a) of CERCLA, 42 U.S.C. 9606 or 9607(a). For thirty (30) days following the date of publication of this Notice in the Federal Register, the Agency will receive written comments relating to the settlement. The Agency will consider all comments received and may modify or withdraw its consent to the settlement if comments received disclose facts or considerations that indicate the proposed settlement is inappropriate, improper, or inadequate. The Agency's response to any comments received will be available for public inspection at 75 Hawthorne Street, San Francisco, CA 94105.

DATES: Comments must be submitted on or before July 30, 2021.

ADDRESSES: The proposed settlement is available for public inspection at EPA Region IX, 75 Hawthorne Street, San Francisco, California. A copy of the proposed settlement may be obtained from David H. Kim, EPA Region IX, 75 Hawthorne Street, ORC-3, San Francisco, CA 94105, telephone number 415-972-3882. Comments should reference the CUC Power Plant Removal Site, Rota, CNMI and should be addressed to Mr. Kim at the above address.

FOR FURTHER INFORMATION CONTACT: David H. Kim, Assistant Regional Counsel (ORC-3), Office of Regional Counsel, U.S. EPA Region IX, 75 Hawthorne Street, San Francisco, CA 94105; phone: (415) 972-3882; fax: (417) 947-3570; email: kim.david@epa.gov.

Enrique Manzanilla,
Director, Superfund Division, U.S. EPA, Region IX.

[FR Doc. 2021-13886 Filed 6-29-21; 8:45 am]

BILLING CODE 6560-50-P